DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action By Trade Adjustment Assistance for Period June 20, 2002-July 16, 2002
Firm name | Address | Date petition accepted | Product
Mellano Enterprises, Inc | P.O. Box 100, San Luis Rey, CA 92068 | 24-Jun-2002 | Foliage and cut flowers.
Performance Coating, Inc | 128 E. Pioneer St., Phoenix, AZ 85040 | 24-Jun-2002 | Relay tower components for the telecommunications industry.
SMM Management, L.L.C., dba Morris Industries | 21002 North 19th Avenue, Phoenix, AZ 85027 | 01-Jul-2002 | Precision metal fabrication, primarily antenna parts.
Evergreen Air Center, Inc | Pinal Air Park, Marana, AZ 85653 | 01-Jul-2002 | Aircraft reconfiguration and rebuilding.
Marquette Tool & Die Company | 3185 South Kingshighway, St. Louis | 01-Jul-2002 | Metal stamping dies.
Ruddock Manufacturing Co., Inc | 1801 Magoffin Avenue, El Paso, TX 79901 | 02-Jul-2002 | Mens and womens shirts.
XTAL Technologies, Ltd | 28 Mill Race Drive, Lynchburg, VA 24502 | 02-Jul-2002 | Freqeuency devices including crystals and filters used in the production of circuit boards.
Aerostar Aerospace Manufacturing, Inc | 2011 West Peoria Avenue, Phoenix, AZ 85029 | 03-Jul-2002 | Aircraft undercarriage and motorcycle components.
John Dusenbery Company, Inc | 220 Franklin Road, Randolph, NJ 07869 | 03-Jul-2002 | Slitters/re-winders which unwind, slit and rewind large reels of material.
MAFCO, Inc | 1203 North 6th Street, Rogers, AR 72757 | 10-Jul-2002 | Cast Iron hydrants and brass well system valves.
Randolph Manufacturing Corporation | 4 Danforth Drive, Easton, PA 18045 | 15-Jul-2002 | Precision screw parts used in the automotive, electronic and OEM markets.
Faulkner Land & Livestock Co., Inc | 1989 South 1875 East, Gooding, ID 83330 | 15-Jul-2002 | Lamb.
Ramsey Winch Company | 1600 North Garnett Road, Tulsa, OK 74416 | 17-Jul-2002 | Winches.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: July 25, 2002.
Anthony J. Meyer,
Coordinator, Trade Adjustment and Technical Assistance.

[FR Doc. 02-19510 Filed 8-1-02; 8:45 am]

BILLING CODE 3510-24-P